INTERNATIONAL TRADE COMMISSION

[Investigation Nos. 701-TA-379 and 731-TA-788, 792, and 793 (Fourth Review)]

Stainless Steel Plate From Belgium, South Africa, and Taiwan; Determination

On the basis of the record ¹ developed in the subject five-year reviews, the United States International Trade Commission (“Commission”) determines, pursuant to the Tariff Act of 1930 (“the Act”), that revocation of the countervailing duty order on stainless steel plate from South Africa and the antidumping duty orders on stainless steel plate from Belgium, South Africa, and Taiwan would be likely to lead to continuation or recurrence of material injury to an industry in the United States within a reasonably foreseeable time.

¹ The record is defined in § 207.2(f) of the Commission's Rules of Practice and Procedure (19 CFR 207.2(f)).

Background

The Commission instituted these reviews on December 1, 2021 (86 FR 68278) and determined on March 7, 2022 that it would conduct expedited reviews (87 FR 29878, May 17, 2022).

The Commission made these determinations pursuant to section 751(c) of the Act (19 U.S.C. 1675(c)). It completed and filed its determinations in these reviews on July 19, 2022. The views of the Commission are contained in USITC Publication 5335 (July 2022), entitled Stainless Steel Plate from Belgium, South Africa, and Taiwan: Investigation Nos. 701-TA-379 and 731-TA-788, 792, and 793 (Fourth Review).

By order of the Commission.
Issued: July 19, 2022.
Katherine Hiner,
Acting Secretary to the Commission.

[FR Doc. 2022-15793 Filed 7-22-22; 8:45 am]

BILLING CODE 7020-02-P